DEPARTMENT OF AGRICULTURE

Forest Service

Bridger-Teton National Forest; Wyoming; Oil and Gas Leasing in Portions of the Wyoming Range in the Bridger-Teton National Forest

AGENCY: Forest Service, USDA.

ACTION: Corrected notice of intent to prepare a supplemental environmental impact statement to analyze and disclose effects of oil and gas leasing on portions of the Bridger-Teton National Forest previously identified as suitable and available for oil and gas leasing in the Bridger-Teton National Forest Land and Resource Management Plan.

SUMMARY: This notice corrects notices of Intent (NOI) published in the Federal Register on February 4, 2008 (73 FR, No. 23, pages 6453-6454) and March 28, 2008 (73 FR, No. 61 pages 16621-16622), to prepare a supplemental environmental impact statement (SEIS) to analyze and disclose environmental effects relative to oil and gas leasing on portions of the forest previously identified as suitable and available for oil and gas leasing in the Bridger-Teton National Forest Land and Resource Management Plan. The Forest Service is providing this corrected NOI because it intends to prepare a new draft and final SEIS in place of the draft and final SEIS released in February 2010 and January 2011, respectively. Extensive public involvement efforts were conducted with the 2008 scoping period. Because extensive public comments covering the range of relevant issues for the analysis were received in the 2008 scoping period and in the comment period on the 2010 Draft SEIS, an additional scoping period is not being conducted. Scoping comments and comments on the Draft SEIS previously submitted will be considered in preparation of the new SEIS. Scoping for a supplemental environmental impact statement is not required [40 CFR 1502.9(c)(4)]. The public will have another opportunity to comment on this project when the new Draft SEIS is released. A draft Record of Decision will be released with the new Final SEIS, and will be subject to the pre-decisional (objection) administrative review process [36 CFR 218]. Individuals and entities who submitted timely, specific written comments regarding this project during the 2008 scoping period and the 2010 Draft SEIS comment period and those who submit comments on the new 2014 Draft SEIS will be eligible to file objections.

DATES: The new Draft SEIS is expected to be published in October 2014. The estimated completion date for the Final SEIS is May 2015.

FOR FURTHER INFORMATION CONTACT: Rob Hoelscher, Big Piney District Ranger, Bridger-Teton National Forest, 10418 South Highway 189, P.O. Box 218, Big Piney, WY 83113.

Individuals who use telecommunication devices for the deaf (TDD) may call the Federal Information Relay Service (FIRS) at 1-800-877-8339 between 8 a.m. and 8 p.m., Eastern Time, Monday through Friday.

SUPPLEMENTARY INFORMATION: A previous revised NOI was published in the Federal Register on March 28, 2008 (73 FR, No. 61, pages 16621-16622) with the title: Revised Notice of Intent To Prepare a Supplemental Environmental Impact Statement To Analyze and Disclose New Information Relative to Oil and Gas Leasing of 44,720 Acres on the Big Piney Ranger District; its purpose was to extend the scoping comment period. This corrected notice updates the original February 2008 NOI and the revised NOI of March 2008 to announce the intent to prepare a new draft and final SEIS. In February 2010, a Draft SEIS was released for public review and comment (75 FR, No. 24, page 6027). In January 2011, a Final SEIS (76 FR, No. 29, page 7844) and Record of Decision were released. In May 2011, the Record of Decision was withdrawn to allow for additional analyses considering updated information. The Forest Service is preparing a new SEIS and Record of Decision to replace previous analysis efforts regarding these specific parcels with the most up-to-date information and scientific analysis. Since the previous notices were published, the Forest Service received notice from the Bureau of Land Management that some parcels are no longer being considered for leasing (updated project map available at http://www.fs.usda.gov/projects/btnf/landmanagement/projects). The title of this analysis is revised to reflect this updated information. The purpose and need, proposed action, and known possible alternatives are clarified as noted below.

Purpose and Need for Action

The purpose for offering parcels and subsequent issuance of leases is to meet the Bridger-Teton National Forest Land and Resource Management Plan Objective 1.1(d) to “provide leasable, locatable, and salable mineral exploration and development opportunities;” and Goal 4.4 “other resources are protected during exploration and development of subsurface resources;” the Bureau of Land Management Pinedale Resource Management Plan mineral management goal to “provide opportunities for mineral extraction and energy exploration and development to provide resources to meet national and local needs while avoiding or otherwise mitigating significant impacts on other resource objectives;” and the Bureau of Land Management Kemmerer Resource Management Plan Goal MR: 1 to “provide opportunities for exploration and developing mineral resources on available public lands.” The offering for sale and subsequent issuance of oil and gas leases is needed to respond to interest in obtaining future opportunities for exploration and development of mineral resources under specific parcels. The Mineral Leasing Act of 1920, as amended, requires the Forest Service and Bureau of Land Management to respond to all leasing interests.

Proposed Action

The Forest Service and Bureau of Land Management propose to offer specific parcels for oil and gas leasing on the eastern slope of the Wyoming Range, along the western portion of Sublette County in areas identified as suitable and available for oil and gas leasing within the Bridger-Teton National Forest and not prohibited by the Wyoming Range Legacy Act. Issuance of leases would follow, incorporating the appropriate standard stipulations for forest management areas 12, 23, 24, 25, 26, and 32, and the applicable Bureau of Land Management resource management plan.

Preliminary Issues

Following are the preliminary issues developed from previous public involvement efforts and considered during alternative development:

Potential impacts from post-leasing exploration and/or development could have cumulative effects on the social and economic well-being of the local communities and quality of life for residents.

Potential impacts from post-leasing exploration and/or development could change the backcountry recreation setting, detracting from the quality of recreation opportunities in the area.

Not issuing leases for these specific parcels or applying additional constraints to leases could prevent effective recovery of energy resources in the area.

Potential impacts from post-leasing exploration and/or development could affect groundwater quality and quantity in the area.

Potential impacts from post-leasing exploration and/or development could occur to terrestrial wildlife including threatened, endangered, sensitive, management indicator species' habitats and populations; large game; and trophy game species.

Potential impacts from post-leasing exploration and/or development could occur to water quality and could affect habitat for fish and other special status aquatic species.

Potential impacts from post-leasing exploration and/or development could occur to rare plant species habitats including sensitive and management indicator species' habitats and populations.

Potential impacts from post-leasing exploration and/or development could impact air quality and air quality-related values, with emphasis on cumulative effects because of extensive development in the Pinedale area and previously monitored exceedances of National Ambient Air Quality Standards for ozone in Sublette County.

Potential impacts from post-leasing exploration and/or development could affect permitted livestock grazing, cultural resources, and visual resources.

Possible Alternatives

Alternative 1: No action/No leasing. The Forest Service would object to the Bureau of Land Management offering for sale leases within these specific parcels.

Alternative 2: Proposed Action, Implement Forest Plan Leasing Availability Decision. The Forest Service would not object to the Bureau of Land Management offering for sale leases within these specific parcels. The Bureau of Land Management would offer for sale leases with existing standard lease stipulations as required by the Bridger-Teton National Forest Land and Resource Management Plan. The Bureau of Land Management may add additional stipulations in accordance with the applicable resource management plan. Future oil and gas exploration and development would occur in accordance with procedures established under an approved Federal oil and gas unit agreement.

Alternative 3: Implement Forest Plan Leasing Availability Decision, Meet Site-Specific Management Goals. The Forest Service would not object to the Bureau of Land Management offering for sale leases within these specific parcels, with site-specific and management area standard lease stipulations required by the Bridger-Teton National Forest Land and Resource Management Plan. For example, a combination of No Surface Occupancy, Timing Limitation, Controlled Surface Use, Conditional No Surface Occupancy, and the Jackson Hole Area Oil and Gas Lease stipulations may be used depending upon resource issues. The Bureau of Land Management may add additional stipulations in accordance with the applicable resource management plan. Future oil and gas exploration and development would occur in accordance with procedures established under an approved Federal oil and gas unit agreement.

Alternative 4: Implement Forest Plan Leasing Availability Decision with No Surface Occupancy. The Forest Service would not object to the Bureau of Land Management offering for sale leases within these specific parcels with a No Surface Occupancy stipulation. Future oil and gas exploration and development would occur in accordance with procedures established under an approved Federal oil and gas unit agreement.

Lead and Cooperating Agencies

The Forest Service is the lead agency. The Bureau of Land Management, the State of Wyoming, and Sublette County are cooperating agencies.

Responsible Official

This corrected NOI updates the responsible officials for this project. The Forest Service responsible official for this decision [36 CFR 228.102(d)] is Clinton D. Kyhl, Bridger-Teton National Forest Supervisor, Bridger-Teton National Forest, 340 N. Cache (P.O. Box 1888), Jackson, Wyoming 83001. The Bureau of Land Management responsible official for final decision (43 CFR 3101.7) relative to the issuance or disposition of the leases and lease parcels is Donald A. Simpson, State Director, Bureau of Land Management—Wyoming State Office, 5353 Yellowstone (P.O. Box 1828), Cheyenne, Wyoming 82009.

Nature of Decision To Be Made

The decision to be made is whether the Forest Service objects or does not object to the Bureau of Land Management offering for sale oil and gas leases on these specific parcels, and under what terms and conditions. This decision will supersede prior Forest Service decisions regarding oil and gas leasing on these specific parcels. Based upon the Forest Service's decision, the Bureau of Land Management will decide which parcels would be offered for lease with appropriate stipulations, which parcels will be deferred, which parcels are not available for leasing, and which parcels are canceled.

Dated: March 12, 2014.
Clinton D. Kyhl,
Forest Supervisor, Bridger-Teton National Forest.

[FR Doc. 2014-05891 Filed 3-20-14; 8:45 am]

BILLING CODE 3410-11-P